DEPARTMENT OF DEFENSE

GENERAL SERVICES ADMINISTRATION

NATIONAL AERONAUTICS AND SPACE ADMINISTRATION

48 CFR Parts 4, 13, 17, 23, 51, and 52

[FAC 2022-07; Docket No. FAR-2022-0052; Sequence No. 2]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective August 10, 2022.

FOR FURTHER INFORMATION CONTACT: Ms. Lois Mandell, Regulatory Secretariat Division (MVCB), at 202-501-4755 or GSARegSec@gsa.gov. Please cite FAC 2022-07, Technical Amendments.

SUPPLEMENTARY INFORMATION: This document makes editorial changes to 48 CFR parts 4, 13, 17, 23, 51, and 52.

List of Subjects in 48 CFR Parts 4, 13, 17, 23, 51, and 52

Government procurement.

William F. Clark,
Director, Office of Government-wide Acquisition Policy, Office of Acquisition Policy, Office of Government-wide Policy.

Therefore, DoD, GSA, and NASA amend 48 CFR parts 4, 13, 17, 23, 51, and 52 as set forth below:

1. The authority citation for 48 CFR parts 4, 13, 17, 23, 51, and 52 continues to read as follows:

Authority: 40 U.S.C. 121(c); 10 U.S.C. chapter 137; and 51 U.S.C. 20113.

PART 4—ADMINISTRATIVE AND INFORMATION MATTERS

4.402 [Amended]

2. In section 4.402 amend paragraph (d)(1) by removing the weblink “https://tesseract.cloud.dcsa.mil/nccs” and adding “https://www.dcsa.mil/is/nccs/” in its place.

PART 13—SIMPLIFIED ACQUISITION PROCEDURES

13.003 [Amended]

3. In section 13.003 amend paragraph (h)(3) by removing the phrase “13.106-2(b)(3)” and adding “13.106-2(b)(4)” in its place.

PART 17—SPECIAL CONTRACTING METHODS

17.502-1 [Amended]

4. Amend section 17.502-1 by—

a. In paragraph (a)(1)(i) removing the weblink “https://www.whitehouse.gov/sites/whitehouse.gov/files/omb/assets/OMB/procurement/interagency_acq/iac_revised.pdf ” and adding “https://www.whitehouse.gov/wp-content/uploads/legacy_drupal_files/omb/assets/OMB/procurement/interagency_acq/iac_revised.pdf ” in its place; and

b. In paragraph (b) introductory text removing the weblink “https://www.whitehouse.gov/sites/whitehouse.gov/files/omb/procurement/memo/development-review-and-approval-of-business-cases-for-certain-interagency-and-agency-specific-acquisitions-memo.pdf ” and adding “https://www.whitehouse.gov/wp-content/uploads/legacy_drupal_files/omb/procurement/memo/development-review-and-approval-of-business-cases-for-certain-interagency-and-agency-specific-acquisitions-memo.pdf ” in its place.

PART 23—ENVIRONMENT, ENERGY AND WATER EFFICIENCY, RENEWABLE ENERGY TECHNOLOGIES, OCCUPATIONAL SAFETY, AND DRUG-FREE WORKPLACE

5. Amend section 23.704 by revising paragraphs (b)(1)(iv) and (b)(2) to read as follows:

23.704 Electronic product environmental assessment tool.

* * * * *

(b) * * *

(1) * * *

(iv) Are described in more detail at https://www.epa.gov/greenerproducts/recommendations-specifications-standards-and-ecolabels-federal-purchasing.

(2) A list of EPEAT® product categories and EPEAT®-registered electronic products that are in conformance with these standards can be found at https://www.epa.gov/greenerproducts/recommendations-specifications-standards-and-ecolabels-federal-purchasing.

* * * * *

PART 51—USE OF GOVERNMENT SOURCES BY CONTRACTORS

6. Amend section 51.102 by revising paragraph (c)(3) to read as follows:

51.102 Authorization to use Government supply sources.

* * * * *

(c) * * *

(3) Approval for the contractor to use Department of Veterans Affairs (VA) supply sources from the Executive Director, Office of Acquisition and Logistics (003A), Department of Veterans Affairs, 810 Vermont Avenue NW, Washington DC 20420;

* * * * *

PART 52—SOLICITATION PROVISIONS AND CONTRACT CLAUSES

52.217-3 [Amended]

7. Amend section 52.217-3 by removing from the provision heading the date “(OCT 1984)” and adding “(APR 1984)” in its place.

[FR Doc. 2022-17070 Filed 8-9-22; 8:45 am]

BILLING CODE 6820-EP-P